DEPARTMENT OF JUSTICE

Notice of Lodging of Proposed Modification to Consent Decree Under the Comprehensive Environmental Response, Compensation, and Liability Act

On August 29, 2025, the Department of Justice lodged with the United States District Court for the Southern District of Alabama a proposed modification to the Consent Decree entered in a lawsuit entitled: United States v. Olin Corp. & BASF Corp., Civil Action No. 20-cv-00602.

The proposed modification requires the defendants in the lawsuit to perform additional remedial actions at the Olin McIntosh Superfund Site located at 1638 Industrial Road in McIntosh, Washington County, Alabama. The U.S. Environmental Protection Agency (EPA) issued a Record of Decision on April 23, 2014, selecting a remedy for Operable Unit 2 at the site, and the Consent Decree previously entered by the court requires the defendants to design and implement the remedy. Based on soil and sediment samples taken between October 2021 and May 2023, EPA issued an Amended Record of Decision in May 2024, selecting additional remedial measures for Operable Unit 2. The proposed modification to the Consent Decree will require the defendants to implement these measures.

The publication of this notice opens a period for public comment on the proposed modification. Comments should be addressed to the Acting Assistant Attorney General, Environment and Natural Resources Division, and should refer to United States v. Olin Corp.& BASF Corp., D.J. Ref. No. 90-11-3-11158. All comments must be submitted no later than thirty (30) days after the publication date of this notice. Comments may be submitted either by email or by mail:

To submit comments: | Send them to:
By email | pubcomment-ees.enrd@usdoj.gov.
By mail | Assistant Attorney General, U.S. DOJ—ENRD, P.O. Box 7611, Washington, DC 20044-7611.

Any comments submitted in writing may be filed by the United States in whole or in part on the public court docket without notice to the commenter.

During the public comment period, the proposed modification may be examined and downloaded at this website: https://www.justice.gov/enrd/consent-decrees. If you require assistance accessing the proposed modification you may request assistance by email or by mail to the addresses provided above for submitting comments.

Scott Bauer,
Assistant Section Chief, Environmental Enforcement Section, Environment and Natural Resources Division.

[FR Doc. 2025-17377 Filed 9-9-25; 8:45 am]

BILLING CODE 4410-15-P